OFFICE OF PERSONNEL MANAGEMENT

Submission for Review: 3206-0216, We Need Important Information About Your Eligibility for Social Security Disability Benefits, RI 98-7

AGENCY: U.S. Office of Personnel Management.

ACTION: 30-Day Notice and request for comments.

SUMMARY: The Office of Personnel Management's (OPM) Retirement Services offers the general public and other Federal agencies the opportunity to comment on an extension, without change, of a currently approved information collection request (ICR) 3206-0216, We Need Important Information About Your Eligibility for Social Security Disability Benefits, RI 98-7. As required by the Paperwork Reduction Act of 1995, (Pub. L. 104-13, 44 U.S.C. chapter 35) as amended by the Clinger-Cohen Act (Pub. L. 104-106) OPM is soliciting comments for this collection. The information collection was previously published in the Federal Register on June 20, 2013, at Volume 78 FR 37244 allowing for a 60-day public comment period. No comments were received for this information collection. The purpose of this notice is to allow an additional 30 days for public comments. The Office of Management and Budget is particularly interested in comments that:

1. Evaluate whether the proposed collection of information is necessary for the proper performance of functions of OPM, including whether the information will have practical utility;

2. Evaluate the accuracy of OPM's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until February 24, 2014. This process is conducted in accordance with 5 CFR 1320.1.

ADDRESSES: Interested persons are invited to submit written comments on the proposed information collection to Office of Information and Regulatory Affairs, Office of Management and Budget, 725 17th Street, NW., Washington, DC 20503, Attention: Desk Officer for the Office of Personnel Management or sent by email to oira_submission@omb.eop.gov or faxed to (202) 395-6974.

FOR FURTHER INFORMATION CONTACT: A copy of this ICR with applicable supporting documentation, may be obtained by contacting the Office of Information and Regulatory Affairs, Office of Management and Budget, 725 17th Street, NW., Washington, DC 20503, Attention: Desk Officer for the Office of Personnel Management or sent by email to oira_submission@omb.eop.gov or faxed to (202) 395-6974.

SUPPLEMENTARY INFORMATION: RI 98-7 is used by OPM to verify receipt of Social Security Administration (SSA) disability benefits, to lessen or avoid overpayment to Federal Employees Retirement System (FERS) disability retirees. It notifies the annuitant of the responsibility to notify OPM if SSA awards disability benefits and the subsequent overpayment that will occur with the receipt of both benefits.

Analysis

Agency: Retirement Operations, Retirement Services, Office of Personnel Management.

Title: We Need Important Information About Your Eligibility for Social Security Disability Benefits.

OMB Number: 3206-0216.

Frequency: On occasion.

Affected Public: Individuals or Households.

Number of Respondents: 4,300.

Estimated Time Per Respondent: 5 minutes.

Total Burden Hours: 358.

U.S. Office of Personnel Management.
Katherine Archuleta,
Director.

[FR Doc. 2014-01211 Filed 1-22-14; 8:45 am]

BILLING CODE 6325-38-P